DEPARTMENT OF ENERGY

Federal Energy Regulatory Commission

Combined Notice of Filings #1

Take notice that the Commission received the following electric corporate filings:

Docket Numbers: EC22-83-000.

Applicants: Black Hills Colorado Electric, LLC.

Description: Application for Authorization Under Section 203 of the Federal Power Act of Black Hills Colorado Electric, LLC.

Filed Date: 6/29/22.

Accession Number: 20220629-5182.

Comment Date: 5 p.m. ET 7/20/22.

Take notice that the Commission received the following exempt wholesale generator filings:

Docket Numbers: EG22-157-000.

Applicants: Clearwater Wind I, LLC.

Description: Notice of Self-Certification of Exempt Wholesale Generator Status of Clearwater Wind I, LLC.

Filed Date: 6/30/22.

Accession Number: 20220630-5058.

Comment Date: 5 p.m. ET 7/21/22.

Take notice that the Commission received the following electric rate filings:

Docket Numbers: ER10-2249-009.

Applicants: Portland General Electric Company.

Description: Triennial Market Power Analysis for Northwest Region of Portland General Electric Company.

Filed Date: 6/30/22.

Accession Number: 20220630-5134.

Comment Date: 5 p.m. ET 8/29/22.

Docket Numbers: ER10-2475-028; ER10-2474-027; ER10-2984-057; ER10-3246-021; ER13-1266-039; ER15-2211-037.

Applicants: MidAmerican Energy Services, LLC, CalEnergy, LLC, PacifiCorp, Merrill Lynch Commodities, Inc., Sierra Pacific Power Company, Nevada Power Company.

Description: Triennial Market Power Analysis for Northwest Region of Nevada Power Company, et al.

Filed Date: 6/29/22.

Accession Number: 20220629-5190.

Comment Date: 5 p.m. ET 8/29/22.

Docket Numbers: ER10-2794-036; ER14-2672-021; ER12-1825-034.

Applicants: EDF Industrial Power Services (CA), LLC, EDF Energy Services, LLC, EDF Trading North America, LLC.

Description: Triennial Market Power Analysis for Southwest Region of EDF Trading North America, LLC et al.

Filed Date: 6/29/22.

Accession Number: 20220629-5185.

Comment Date: 5 p.m. ET 8/29/22.

Docket Numbers: ER11-2508-026; ER19-1415-002; ER19-1416-001; ER19-1414-002.

Applicants: GenOn REMA, LLC, GenOn Florida, LP, GenOn California South, LP, GenOn Energy Management, LLC.

Description: Supplement to December 29, 2020 Triennial Market Power Analysis for the Southeast Region of GenOn Energy Management, LLC, et al.

Filed Date: 5/11/21.

Accession Number: 20210511-5110.

Comment Date: 5 p.m. ET 7/11/22.

Docket Numbers: ER15-2267-003.

Applicants: Chevron Power Holdings Inc.

Description: Triennial Market Power Analysis for Southwest Region of Chevron Power Holdings Inc.

Filed Date: 6/29/22.

Accession Number: 20220629-5180.

Comment Date: 5 p.m. ET 8/29/22.

Docket Numbers: ER16-2019-007.

Applicants: Five Points Solar Park LLC.

Description: Triennial Market Power Analysis for Southwest Region of Five Points Solar Park LLC.

Filed Date: 6/29/22.

Accession Number: 20220629-5181.

Comment Date: 5 p.m. ET 8/29/22.

Docket Numbers: ER16-2044-002.

Applicants: Elk Hills Power, LLC.

Description: Triennial Market Power Analysis for Southwest Region of Elk Hills Power, LLC.

Filed Date: 6/27/22.

Accession Number: 20220627-5164.

Comment Date: 5 p.m. ET 8/26/22.

Docket Numbers: ER18-2511-005.

Applicants: NorthWestern Corporation.

Description: Triennial Market Power Analysis for Northwest Region of NorthWestern Corporation.

Filed Date: 6/30/22.

Accession Number: 20220630-5116.

Comment Date: 5 p.m. ET 8/29/22.

Docket Numbers: ER20-391-006; ER21-2557-001.

Applicants: Aron Energy Prepay 5 LLC, J. Aron & Company LLC.

Description: Triennial Market Power Analysis and Notice of Change in Status for Southwest Region of Aron Energy Prepay 5 LLC, et al.

Filed Date: 6/29/22.

Accession Number: 20220629-5183.

Comment Date: 5 p.m. ET 8/29/22.

Docket Numbers: ER20-464-002; ER11-2335-018; ER18-920-011.

Applicants: Marco DM Holdings, L.L.C., Plum Point Services Company, LLC, Greenleaf Energy Unit 2 LLC.

Description: Triennial Market Power Analysis for Southwest Region of Greenleaf Energy Unit 2 LLC, et al.

Filed Date: 6/29/22.

Accession Number: 20220629-5187.

Comment Date: 5 p.m. ET 8/29/22.

Docket Numbers: ER20-608-003.

Applicants: Bear Valley Electric Service, Inc.

Description: Market: Triennial Market Power Filing to be effective 12/31/9998.

Filed Date: 6/30/22.

Accession Number: 20220630-5160.

Comment Date: 5 p.m. ET 8/29/22.

Docket Numbers: ER20-2590-001.

Applicants: Basin Electric Power Cooperative.

Description: Triennial Market Power Analysis for Northwest Region of Basin Electric Power Cooperative.

Filed Date: 6/29/22.

Accession Number: 20220629-5189.

Comment Date: 5 p.m. ET 8/29/22.

Docket Numbers: ER21-46-000.

Applicants: Mercuria Energy America, LLC.

Description: Refund Report of Mercuria Energy America, L.L.C.

Filed Date: 6/23/22.

Accession Number: 20220623-5193.

Comment Date: 5 p.m. ET 7/14/22.

Docket Numbers: ER21-630-002.

Applicants: 325MK 8ME LLC.

Description: Compliance filing: 325MK 8ME LLC Request for Change in Category Status to be effective 7/1/2022.

Filed Date: 6/30/22.

Accession Number: 20220630-5033.

Comment Date: 5 p.m. ET 7/21/22.

Docket Numbers: ER21-1350-002.

Applicants: Citadel Solar, LLC.

Description: Compliance filing: Citadel Solar, LLC Request for Change in Category Status to be effective 7/1/2022.

Filed Date: 6/30/22.

Accession Number: 20220630-5032.

Comment Date: 5 p.m. ET 7/21/22.

Docket Numbers: ER22-2042-000.

Applicants: Jackpot Holdings, LLC.

Description: Supplement to June 6, 2022 Jackpot Holdings, LLC submits tariff filing per 35.12: Jackpot Holdings, LLC—MBR Application to be effective 8/6/2022.

Filed Date: 6/29/22.

Accession Number: 20220629-5186.

Comment Date: 5 p.m. ET 7/11/22.

Docket Numbers: ER22-2122-001; ER13-1248-003.

Applicants: Patua Acquisition Company, LLC, NGP Blue Mountain I LLC.

Description: Triennial Market Power Analysis for Northwest Region of NGP Blue Mountain I LLC, et al.

Filed Date: 6/29/22.

Accession Number: 20220629-5184.

Comment Date: 5 p.m. ET 8/29/22.

Docket Numbers: ER22-2237-000.

Applicants: Southern California Edison Company.

Description: Tariff Amendment: Cancel LA Ortega Grid WDT1636 SA No 1167 to be effective 8/30/2022.

Filed Date: 6/30/22.

Accession Number: 20220630-5062.

Comment Date: 5 p.m. ET 7/21/22.

Docket Numbers: ER22-2238-000.

Applicants: Southwest Power Pool, Inc.

Description: § 205(d) Rate Filing: 1976R11 FreeState Electric Cooperative, Inc. NITSA and NOA to be effective 9/1/2022.

Filed Date: 6/30/22.

Accession Number: 20220630-5076.

Comment Date: 5 p.m. ET 7/21/22.

Docket Numbers: ER22-2239-000.

Applicants: Southwest Power Pool, Inc.

Description: § 205(d) Rate Filing: 1889R11 Evergy Kansas Central, Inc. NITSA NOA to be effective 9/1/2022.

Filed Date: 6/30/22.

Accession Number: 20220630-5081.

Comment Date: 5 p.m. ET 7/21/22.

Docket Numbers: ER22-2241-000.

Applicants: Southwest Power Pool, Inc.

Description: § 205(d) Rate Filing: 3620R4 Kansas City Board of Public Utilities NITSA NOA to be effective 9/1/2022.

Filed Date: 6/30/22.

Accession Number: 20220630-5082.

Comment Date: 5 p.m. ET 7/21/22.

Docket Numbers: ER22-2242-000.

Applicants: PJM Interconnection, L.L.C.

Description: § 205(d) Rate Filing: Amendment to ISA, Service Agreement No. 5961; Queue No. AE1-226 to be effective 1/19/2021.

Filed Date: 6/30/22.

Accession Number: 20220630-5085.

Comment Date: 5 p.m. ET 7/21/22.

Docket Numbers: ER22-2243-000.

Applicants: Southwest Power Pool, Inc.

Description: § 205(d) Rate Filing: 1636R26 Kansas Electric Power Cooperative, Inc. NITSA and NOA to be effective 9/1/2022.

Filed Date: 6/30/22.

Accession Number: 20220630-5087.

Comment Date: 5 p.m. ET 7/21/22.

Docket Numbers: ER22-2244-000.

Applicants: Southwest Power Pool, Inc.

Description: § 205(d) Rate Filing: 1887R12 Evergy Kansas Central, Inc. NITSA NOA to be effective 9/1/2022.

Filed Date: 6/30/22.

Accession Number: 20220630-5093.

Comment Date: 5 p.m. ET 7/21/22.

Docket Numbers: ER22-2245-000.

Applicants: Southwest Power Pool, Inc.

Description: § 205(d) Rate Filing: 1885R12 Evergy Kansas Central, Inc. NITSA NOA to be effective 9/1/2022.

Filed Date: 6/30/22.

Accession Number: 20220630-5102.

Comment Date: 5 p.m. ET 7/21/22.

Docket Numbers: ER22-2246-000.

Applicants: BCE Los Alamitos, LLC.

Description: Baseline eTariff Filing: Market-Based Rate Application for BCE Los Alamitos, LLC to be effective 8/30/2022.

Filed Date: 6/30/22.

Accession Number: 20220630-5128.

Comment Date: 5 p.m. ET 7/21/22.

Docket Numbers: ER22-2247-000.

Applicants: Midcontinent Independent System Operator, Inc.

Description: § 205(d) Rate Filing: 2022-06-30_SA 3332 SIGE-Grandview Solar 1st Rev GIA (J783) to be effective 6/16/2022.

Filed Date: 6/30/22.

Accession Number: 20220630-5132.

Comment Date: 5 p.m. ET 7/21/22.

Docket Numbers: ER22-2248-000.

Applicants: Cedar Creek Wind Energy, LLC.

Description: Market: Updated Market Power Analysis for the NW Region and Revised MBR Tariff to be effective 7/1/2022.

Filed Date: 6/30/22.

Accession Number: 20220630-5137.

Comment Date: 5 p.m. ET 8/29/22.

Docket Numbers: ER22-2249-000.

Applicants: Mountain Breeze Wind, LLC.

Description: Market: Updated Market Power Analysis for the NW Region and Revised MBR Tariff to be effective 7/1/2022.

Filed Date: 6/30/22.

Accession Number: 20220630-5142.

Comment Date: 5 p.m. ET 8/29/22.

Docket Numbers: ER22-2250-000.

Applicants: Panorama Wind, LLC.

Description: Market: Updated Market Power Analysis for the NW Region and Revised MBR Tariff to be effective 7/1/2022.

Filed Date: 6/30/22.

Accession Number: 20220630-5146.

Comment Date: 5 p.m. ET 8/29/22.

Docket Numbers: ER22-2251-000.

Applicants: Tidal Energy Marketing (U.S.) L.L.C.

Description: § 205(d) Rate Filing: MBR Tariff Revisions to be effective 7/1/2022.

Filed Date: 6/30/22.

Accession Number: 20220630-5155.

Comment Date: 5 p.m. ET 7/21/22.

Docket Numbers: ER22-2252-000.

Applicants: Southwest Power Pool, Inc.

Description: § 205(d) Rate Filing: 1895R11 Evergy Kansas Central, Inc. NITSA NOA to be effective 9/1/2022.

Filed Date: 6/30/22.

Accession Number: 20220630-5158.

Comment Date: 5 p.m. ET 7/21/22.

Docket Numbers: ER22-2253-000.

Applicants: PJM Interconnection, L.L.C.

Description: § 205(d) Rate Filing: Amendment to WMPA, Service Agreement No. 6084; Queue No. AF2-292 to be effective 5/4/2021.

Filed Date: 6/30/22.

Accession Number: 20220630-5169.

Comment Date: 5 p.m. ET 7/21/22.

Docket Numbers: ER22-2254-000.

Applicants: Consolidated Edison Company of New York, Inc.

Description: § 205(d) Rate Filing: Electric and Gas Bill Relief Program 6-30-2022 to be effective 7/1/2022.

Filed Date: 6/30/22.

Accession Number: 20220630-5170.

Comment Date: 5 p.m. ET 7/21/22.

Docket Numbers: ER22-2255-000.

Applicants: Duke Energy Progress, LLC.

Description: § 205(d) Rate Filing: DEP-Recovery of a Regulatory Asset Related to Early Retirement of Roxboro to be effective 7/1/2022.

Filed Date: 6/30/22.

Accession Number: 20220630-5181.

Comment Date: 5 p.m. ET 7/21/22.

Docket Numbers: ER22-2256-000.

Applicants: New Creek Wind LLC.

Description: § 205(d) Rate Filing: Market-Based Tariff Revisions to be effective 7/1/2022.

Filed Date: 6/30/22.

Accession Number: 20220630-5187.

Comment Date: 5 p.m. ET 7/21/22.

Docket Numbers: ER22-2257-000.

Applicants: PJM Interconnection, L.L.C.

Description: § 205(d) Rate Filing: Original ISA/CSA, Service Agreement Nos. 6527/6515; Queue No. AC1-053 to be effective 6/7/2022.

Filed Date: 6/30/22.

Accession Number: 20220630-5210.

Comment Date: 5 p.m. ET 7/21/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2022.
Debbie-Anne A. Reese,
Deputy Secretary.

[FR Doc. 2022-14455 Filed 7-6-22; 8:45 am]

BILLING CODE 6717-01-P